POSTAL SERVICE

Privacy Act System of Records

AGENCY: Postal Service™.

ACTION: Notice of a new system of records.

SUMMARY: The United States Postal Service (USPS™) is proposing to create a new General Privacy Act System of Records.

DATES: These revisions will become effective without further notice on June 10, 2021, unless comments received on or before that date result in a contrary determination.

ADDRESSES: Comments may be submitted via email to the Privacy and Records Management Office, United States Postal Service Headquarters (privacy@usps.gov). Arrangements to view copies of any written comments received, to facilitate public inspection, will be made upon request.

FOR FURTHER INFORMATION CONTACT: Janine Castorina, Chief Privacy and Records Management Officer, Privacy and Records Management Office, 202-268-3069 or privacy@usps.gov.

SUPPLEMENTARY INFORMATION:

Background

The world of commercial information technology resources (“IT”) is constantly changing and innovating to improve the daily lives of businesses, their employees, and their customers. This pace can often result in unanticipated obsolescence, necessitating review of an organization's already implemented solutions. For the Postal Service, legal processes and notice required by the Privacy Act present additional challenges, as new technologies will require further review for possible compliance issues to meet statutory and regulatory requirements.

To better meet the changing technology world, the Postal Service will consolidate existing Systems of Records (“SOR”s) covering IT into three new, comprehensive Systems of Records. These SORs will work in tandem, with each individual SOR covering a specific group of related functions, and all three SORs working together to support a seamless technology experience.

These SORs, generally, will cover the following three areas:

• Infrastructure, covering records created for use throughout the entirety of a particular IT resource in addition to covering the records created from the usage of those records by users and applications.

• Applications, covering records created through the regular use of an application.

• Administrative, covering records created for monitoring and administration of users and applications within an IT resource.

In addition to covering these three areas generally, the Postal Service will look ahead in an effort to include possible future technology solutions within this System of Records. This will give the Postal Service flexibility to more easily adapt to the advancing pace of information technology and to better fulfill its service obligations. This will also provide transparency into the collection of records relating to commercial IT, allowing Postal employees, contractors, and the public to more easily identify what we do with their information.

Rationale for the Creation of a New USPS System of Records

Currently, records relating to the implementation of IT resources are housed primarily in USPS 500.000, Property Management Records, with other IT-related components appearing in 890.000, Sales, Marketing, Events, and Publications, and other SORs. SOR 500.000 reflects not only IT access records, but also building access and related records. This results in a mixture of uses within SOR 500.000, which reduces optimization and can result in confusion.

The creation of a new SOR to encompass commercial IT resources, therefore, provides a platform which is easy to understand and allows for greater flexibility in use and maintenance. Since the new SOR will house only IT resources, the public can more easily understand what information is collected and how it is used.

Further, documenting IT records within one SOR provides for greater flexibility in adding new resources as well as maintaining existing resources. For example, one application may already collect and store, for the same purpose, data elements that a new application will use. With a record already documented, the implementation process of the new technology will be streamlined while also meeting statutory and regulatory mandates.

Description of New or Modified System of Records

This new System of Records is being developed to support the implementation of various commercial IT resources and to provide support for future implementations.

This system specifically will cover categories of records referred to collectively as “Applications.” Categories of Records in this system reference data elements created through normal use and interactions in a software application. Applications covered in this SOR reference or incorporate data elements otherwise documented in USPS 550.000 Commercial Information Technology Resources- Infrastructure; therefore, they will not be specifically documented here unless this system references a transformative use of that element.

This System of Records may overlap with elements appearing in other Systems of Records, as indicated in the Rationale for Changes to USPS System of Records section. This new System of Records will encompass commercially developed or commercially assisted IT resources. Applications developed in-house or by the Postal Service, such as Informed Delivery®, will still be represented in their own SOR.

SYSTEM NAME AND NUMBER:

550.100 Commercial Information Technology Resources—Applications.

SECURITY CLASSIFICATION:

None.

SYSTEM LOCATION:

All USPS facilities and contractor sites.

SYSTEM MANAGER(S) AND ADDRESS:

Chief Information Officer and Executive Vice President, United States Postal Service, 475 L'Enfant Plaza SW, Washington, DC 20260.

AUTHORITY FOR MAINTENANCE OF THE SYSTEM:

39 U.S.C. 401, 403, and 404.

PURPOSE(S) OF THE SYSTEM:

1. To provide event registration services to USPS customers, contractors, and other third parties.

2. To allow task allocation and tracking among team members.

3. To allow users to communicate by telephone, instant-messaging, and email through local machine and web-based applications on desktop and mobile operating systems.

4. To share your personal image via your device camera during meetings and web conferences, if you voluntarily choose to turn the camera on, enabling virtual face-to-face conversations.

5. To provide for the creation and storage of media files, including video recordings, audio recordings, desktop recording, and web-based meeting recordings.

6. To provide a collaborative platform for viewing video and audio recordings.

7. To create limited use applications using standard database formats.

8. To review distance driven by approved individuals for accurate logging and compensation.

9. To develop, maintain, and share computer code.

10. To comply with Security Executive Agent Directive (SEAD) 3 requirements for self-reporting of unofficial foreign travel pertaining to covered individuals who have access to classified information or who hold a sensitive position.

CATEGORIES OF INDIVIDUALS COVERED BY THE SYSTEM:

1. Individuals with authorized access to USPS computers, information resources, and facilities, including employees, contractors, business partners, suppliers, and third parties.

2. Individuals participating in web-based meetings, web-based video conferencing, web-based communication applications, and web-based collaboration applications.

CATEGORIES OF RECORDS IN THE SYSTEM:

1. Third-party Information records: Records relating to non-Postal, third-party individuals utilizing an information system, application, or piece of software, including: Third-Party Name, Third Party Date Request, Third Party Free Text, Guest User Information.

2. Collaboration and Communication records: Records relating to web-conferencing, web-collaboration, and web-communication applications, including; Email Body Text, Email Metadata, Poll Responses, Survey Responses, Message Reactions, Group Names, Group IDs, Action Name, Number Of Actions Sent, Number Of Action Responses, Employee Phone Number, Group Chat History, Profile Information, Group Membership, Contacts, Enterprise Social Network User Name, Enterprise Social Network User State, Enterprise Social Network User State Change Date, Enterprise Social Network User Last Activity Date, Number Of Messages Posted By An Enterprise Social Network User In Specified Time Period, Number Of Messages Viewed By An Enterprise Social Network User, Number Of Liked Messages By An Enterprise Social Network User, Products Assigned To An Enterprise Social Network User, Home Network Information, External Network Information, External Network Name, External Network Description, External Network Image, Network Creation Date, Network Usage Policy, External Network User Name, External Network User Email Address, External Group Name, Number Of Users On A Network, Network ID, Live Event Video Links, Files Added Or Modified In Enterprise Social Network, Message ID, Thread ID, Message Privacy Status, Full Body Of Message, Project Owner, Project Creator, Event Start Time, Event Status, Event Organizer, Event Presenter, Event Producer, Event Production Type, Event Recording Setting, Total Number Of Event Media Viewings, Number Of Active Users, Number Of Active Users In Groups, Number Of Active Group Communication Channels, Number Of Messages Sent, Number Of Calls Participated In, Last Activity Date Of A User, Number Of Guest Users In A Group, Event Name, Event Description, Event Start Date, Event End Date, Video Platform Group Name, Video Platform Group Email Alias, Video Platform Group Description, Video Platform Group Classification, Video Platform Group Access Level, Video Platform Channel Name, Video Platform Channel Description, Video Platform Channel Access, Video Platform Live Event Recording.

3. Multimedia records: Records relating to media associated with or originating from an information system, including; Video Platform User ID, Video Name, Videos Uploaded By User, Videos Accessed By User, Channels Created By User, User Group Membership, Comments Left By User On Videos, Screen Recordings, Video Transcript, Deep Search Captions, Video Metadata, Audio Metadata, Phone Number, Time Phone Call Started, User Name, Call Type, Phone Number Called To, Phone Number Called From, Called To Location, Called From Location, Telephone Minutes Used, Telephone Minutes Available, Charges For Use Of Telephone Services, Currency Of Charged Telephone Services, Call Duration, Call ID, Conference ID, Phone Number Type, Blocked Phone Numbers, Blocking Action, Reason For Blocking Action, Blocked Phone Number Display Name, Date And Time Of Blocking, Call Start Time, User Display Name, SIP Address, Caller Number, Called To Number, Call Type, Call Invite Time, Call Failure Time, Call End Time, Call Duration, Number Type, Media Bypass, SBC FQDN, Data Center Media Path, Data Center Signaling Path, Event Type, Final SIP, Final Vendor Subcode, Final SIP Phrase, Unique Customer Support ID.

4. Limited Use Application records: Records relating to applications with a specific, limited use, including; Application Authoring Application Name, Application Authoring Application Author, Voice Search Text Strings, Miles Driven, Mileage Rates, Country Currency, Destination, Destination Classification, Car Make, Car Model, Working Hours, Total Number Of Monthly Drives, Total Number Of Monthly Miles, Total Number Of Personal Drives, Total Number Of Personal Drives.

5. Development Records: Records relating to applications used for the creation, sharing, or modification of software code, including: Data Repository User ID, Data Repository Password, Data Repository User Address, Data Repository Payment Information, Data Repository User First Name, Data Repository User Last Name, Data Repository Profile Picture, Data Repository Profile Biography, Data Repository Profile Location, Data Repository User Company, Data Repository User Preferences, Data Repository User Preference Analytics, Data Repository Transaction Date, Data Repository Transaction Time, Data Repository Transaction Amount Charged, Data Repository web pages Viewed, Data Repository Referring website, Data Repository Date Of web page Request, Data Repository Time Of web page Request, Data Repository User Commits, Data Repository User Commit Comment Body Text, Data Repository Pull Request Comment Body Text, Data Repository Issue Comment Body Text, Data Repository User Comment Body Text, Data Repository User Authentication, Language Of Device Accessing Data Repository, Operating System Of Device Accessing Data Repository, Application Version Of Device Accessing Data Repository, Device Type Of Device Accessing Data Repository, Device ID Of Device Accessing Data Repository, Device Model Of Device Accessing Data Repository, Device Manufacturer Of Device Accessing Data Repository, Browser Version Of Device Accessing Data Repository, Client Application Information Of Device Accessing Data Repository, Data Repository User Usage Information, Data Repository Transactional Information, Data Repository API Notification Status, Data Repository API Issue Status, Data Repository API Pull Status, Data Repository API Commit Status, Data Repository API Review Status, Data Repository API Label, Data Repository API User Account Signin Status, Data Repository API Schedule Status, Data Repository API Schedule List.

6. Unofficial Foreign Travel Monitoring: Records relating to covered individuals for the administration of the SEAD 3 program, including: Title, Name Of Traveler, Information Type: Pre-Travel And Post-Travel, Start Date Of Travel, End Date Of Travel, Carrier Of Transportation, Countries You Are Visiting, Passport Number, Passport Expiration Date, Names And Association Of Foreign National Travel Companions, Planned Foreign Contacts, Emergency Contact Name, Emergency Contact Phone Number, Emergency Contact Relationship, Post-Travel Questions Relating To Activity, Events, And Interactions.

ROUTINE USES OF RECORDS MAINTAINED IN THE SYSTEM, INCLUDING CATEGORIES OF USERS AND THE PURPOSES OF SUCH USES:

Standard routine uses 1. through 9. apply. In addition:

(a) Disclosure of records to appropriate agencies, entities, and persons when (1) the Postal Service suspects or has confirmed that there has been a breach of the system of records; (2) the Postal Service has determined that as a result of the suspected or confirmed breach there is a risk of harm to individuals, the Postal Service (including its information systems, programs, and operations), the Federal Government, or national security; and (3) the disclosure made to such agencies, entities, and persons is reasonably necessary to assist in connection with the Postal Service's efforts to respond to the suspected or confirmed breach or to prevent, minimize, or remedy such harm.

RECORD SOURCE CATEGORIES:

Employees; contractors; suppliers; customers.

POLICIES AND PRACTICES FOR STORAGE OF RECORDS:

Automated database, computer storage media, and paper.

POLICIES AND PRACTICES FOR RETRIEVAL OF RECORDS:

1. Records relating to third-parties are retrievable by name and email address.

2. Records relating to communication and collaboration are retrievable by name, email address, and user ID.

3. Records pertaining to multimedia are retrievable by user name and media title.

4. Records relating to application development are retrievable by user ID and application name.

5. Records relating to Unofficial Foreign Travel Monitoring for covered individuals are retrievable by name.

POLICIES AND PRACTICES FOR RETENTION AND DISPOSAL OF RECORDS:

1. Records relating to third-parties are retained for twenty-four months.

2. Records relating to communication and collaboration are retained for twenty-four months.

3. Multimedia recordings are retained for twenty-four months.

4. Records relating to application development are retained for twenty-four months.

5. Records relating to Unofficial Foreign Travel Monitoring for covered individuals are retained for twenty-five years.

ADMINISTRATIVE, TECHNICAL, AND PHYSICAL SAFEGUARDS:

Paper records, computers, and computer storage media are located in controlled-access areas under supervision of program personnel. Computer access is limited to authorized personnel with a current security clearance, and physical access is limited to authorized personnel who must be identified with a badge.

Access to records is limited to individuals whose official duties require such access. Contractors and licensees are subject to contract controls and unannounced on-site audits and inspections.

Computers are protected by encryption, mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedure and Record Access Procedures above.

NOTIFICATION PROCEDURE:

Customers wanting to know if other information about them is maintained in this system of records must address inquiries in writing to the Chief Information Officer and Executive Vice President and include their name and address.

EXEMPTION(S) PROMULGATED FROM THIS SYSTEM:

None.

HISTORY:

None.

Joshua J. Hofer,
Attorney, Ethics & Legal Compliance.

[FR Doc. 2021-09754 Filed 5-10-21; 8:45 am]

BILLING CODE P